DEPARTMENT OF HEALTH AND HUMAN SERVICES

Centers for Disease Control and Prevention

[Program Announcement 01068]

Texas-Mexico Border Infectious Disease Monitoring Program; Notice of Availability of Funds

A. Purpose

The Centers for Disease Control and Prevention (CDC) announces the availability of fiscal year (FY) 2001 funds for a grant program for a Texas-Mexico Border Infectious Disease Monitoring Program. This program addresses the “Healthy People 2010” focus area of Immunization and Infectious Diseases.

The purpose of the program is to initiate emerging infectious disease surveillance and related activities along the Texas-Mexico border, focusing on infectious diseases and conditions that are important in the region.

B. Eligible Applicants

Assistance will be provided to the University of Texas Medical Branch at Galveston (UTMB-G). No other applications are solicited. Eligibility is limited to UTMB-G because fiscal year 2001 Federal appropriations specifically directs CDC to award this applicant funds to conduct a project to monitor infectious diseases along the Texas-Mexico border.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $961,000 is available in FY 2001 to fund the award. It is expected that the award will begin on or about August 1, 2001, and will be made for a 12-month budget period within a project period of one year. The funding estimate may change.

D. Where To Obtain Additional Information

This and other CDC announcements can be found on the CDC home page Internet address— http://www.cdc.gov. Click on “Funding” then “Grants and Cooperative Agreements.”

To obtain business management technical assistance, contact: Merlin Williams, Grants Management Specialist, Grants Management Branch, Procurement and Grants Office, Centers for Disease Control and Prevention, 2920 Brandywine Road, Room 3000, Atlanta, GA 30341-4146, Telephone number: (770) 488-2765, Email address: mqw6@cdc.gov.

For program technical assistance, contact: Greg Jones, M.P.A., Office of the Director, National Center for Infectious Diseases, Centers for Disease Control and Prevention, 1600 Clifton Road, NE., Mailstop C-12, Atlanta, GA 30333, Telephone number: (404) 639-4180, Email address: gjj1@cdc.gov.

Dated: May 8, 2001.
Henry S. Cassell III,
Acting Director, Procurement and Grants Office, Centers for Disease Control and Prevention (CDC).

[FR Doc. 01-12001 Filed 5-11-01; 8:45 am]

BILLING CODE 4163-18-P